DEPARTMENT OF TRANSPORTATION

Surface Transportation Board

[STB Finance Docket No. 34055 (Sub-No. 1)]

Union Pacific Railroad Company—Trackage Rights Exemption—The Burlington Northern and Santa Fe Railway Company

AGENCY: Surface Transportation Board DOT.

ACTION: Notice of exemption.

SUMMARY: The Board, under 49 U.S.C. 10502, exempts the trackage rights described in STB Finance Docket No. 34055 ¹ to permit the trackage rights to expire on June 22, 2001, in accordance with the agreement of the parties.

DATES: This exemption is effective on June 22, 2001.

ADDRESSES: An original and 10 copies of all pleadings referring to STB Finance Docket No. 34055 (Sub-No. 1) must be filed with the Surface Transportation Board, Office of the Secretary, Case Control Unit, 1925 K Street, NW., Washington, DC 20423-0001. In addition, a copy of all pleadings must be served on petitioner's representative (1) Robert T. Opal, Union Pacific Railroad Company, 1416 Dodge Street, Room 830, Omaha, NE 68179, and (2) Yolanda Grimes Brown, The Burlington Northern and Santa Fe Railway Company, 3017 Lou Menk Drive, P.O. Box 961039, Fort Worth, TX 76161-0039.

¹ On June 6, 2001, the Union Pacific Railroad Company (UP) filed a notice of exemption under the Board's class exemption procedures at 49 CFR 1180.2(d)(7). The notice covered the agreement by BNSF to grant temporary overhead trackage rights to UP over 175 miles of BNSF's rail line as follows: (1) Between Shawnee Jct., WY, BNSF milepost 117.1, and Bridger Jct., WY, BNSF milepost 127.3 (Orin Subdivision); (2) between Bridger Jct., BNSF milepost 133.2, and East Guernsey, WY, BNSF milepost 91.7 (Canyon Subdivision); (3) between East Guernsey, BNSF milepost 91.7, and Northport, NE, BNSF milepost 0.0 (Valley Subdivision); and (4) between Northport, BNSF milepost 33.8, and Sidney, NE, BNSF milepost 75.4 (Angora Subdivision). See Union Pacific Railroad Company-Trackage Rights Exemption-The Burlington Northern and Santa Fe Railway Company, STB Finance Docket No. 34055 (STB served June 18, 2001). The trackage rights agreement is scheduled to expire June 22, 2001. The trackage rights operations under the exemption became effective and were scheduled to be consummated on June 13, 2001.

FOR FURTHER INFORMATION CONTACT: Joseph H. Dettmar (202) 565-1600. [TDD for the hearing impaired 1-800-877-8339.]

SUPPLEMENTARY INFORMATION: Additional information is contained in the Board's decision. To purchase a copy of the full decision, write to, call, or pick up in person from: Dā-To-Dā Office Solutions, Room 405, 1925 K Street, NW., Washington, DC 20006. Telephone: (202) 293-7776. [Assistance for the hearing impaired is available through TDD services 1-800-877-8339.]

Board decisions and notices are available on our website at “WWW.STB.DOT.GOV.”

Decided: June 21, 2001.
By the Board, Chairman Morgan, Vice Chairman Clyburn, and Commissioner Burkes.
Vernon A. Williams,
Secretary.

[FR Doc. 01-16145 Filed 6-27-01; 8:45 am]

BILLING CODE 4915-00-P